DEPARTMENT OF COMMERCE

International Trade Administration

(A-570-827)

Notice of Initiation of Antidumping Duty Changed Circumstances Review: Certain Cased Pencils from the People's Republic of China

AGENCY: Import Administration, International Trade Administration, Department of Commerce.

SUMMARY: In accordance with section 751(b) of the Tariff Act of 1930, as amended (the Act), and section 351.216(b) of the Department of Commerce's (the Department) regulations, M.A. Notch Corporation (Notch) filed a request asking that the Department exclude from the antidumping duty (AD) order on certain cased pencils from the People's Republic of China (PRC) a large novelty pencil, which is described below. Domestic interested parties who have been active participants in recent administrative reviews of this order¹ have affirmatively expressed a lack of interest in the continuation of the order with respect to this product. In response to the request, the Department is initiating a changed circumstances review of the AD order on certain cased pencils from the PRC.

¹ Sanford Corporation, Musgrave Pencil Company, Rose Moon, Inc., and General Pencil Company (collectively, Sanford et al), domestic manufacturers of cased pencils, have. See, e.g., Certain Cased Pencils from the People's Republic of China; Final Results and Partial Rescission of Antidumping Duty Administrative Review, 70 FR 42301 (July 22, 2005) and Certain Cased Pencils from the People's Republic of China; Final Results and Partial Rescission of Antidumping Duty Administrative Review, 69 FR 29266 (May 21, 2004).

EFFECTIVE DATE: August 30, 2005.

FOR FURTHER INFORMATION CONTACT: Paul Stolz or Charles Riggle, AD/CVD Operations, Office 8, Import Administration, International Trade Administration, U.S.Department of Commerce, 14th Street and Constitution Avenue, NW, Washington, DC 20230; telephone: (202) 482-4474 and (202) 482-0650, respectively.

SUPPLEMENTARY INFORMATION:

Background

On April 14, 2005, Notch, a U.S. importer, filed a request asking the Department to exclude a large novelty pencil from the AD order on certain cased pencils from the PRC. See Notch's letter to the Secretary, dated April 5, 2005 (Notch Request Letter). Specifically, Notch requests that the Department exclude from the AD order imports of certain cased pencils meeting the following description: novelty jumbo pencil that is octagonal in shape, approximately ten inches long, one inch in diameter, and three-and-one eighth inches in circumference, composed of turned wood encasing one-and-one half inches of sharpened lead on one end and a rubber eraser on the other end. See Notch Request Letter at 1.

On May 6, 2005, Sanford et al submitted a letter to the Department stating that they “ . . . do not object to exclusion of items meeting the description set forth in the quoted description” (as stated above).

Scope of the Order

Imports covered by this order are shipments of certain cased pencils of any shape or dimension (except as described below) which are writing and/or drawing instruments that feature cores of graphite or other materials, encased in wood and/or man-made materials, whether or not decorated and whether or not tipped (e.g., with erasers, etc.) in any fashion, and either sharpened or unsharpened. The pencils subject to the order are classified under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: 1) length: 13.5 or more inches; 2) sheath diameter: not less than one-and-one quarter inches at any point (before sharpening); and 3) core length: not more than 15 percent of the length of the pencil.

Although the HTSUS subheading is provided for convenience and customs purposes, the written description of the scope of the order is dispositive.

Prior Changed Circumstance Rulings

The Department has published the final results of the following changed circumstances reviews to date:

(1) On November 4, 2003, the Department published the final results of a changed circumstances review that excluded from the scope of the order pencils with all of the following physical characteristics: length: 1) 13.5 or more inches; 2) sheath diameter: not less than one-and-one quarter inches at any point (before sharpening); and 3) core length: not more than 15 percent of the length of the pencil. See Notice of Final Results of Antidumping Duty Changed Circumstances Review, and Determination to Revoke Order in Part: Certain Cased Pencils from the People's Republic of China, 68 FR 62428 (November 4, 2003).

(2) On March 27, 2003, the Department published the final results of a changed circumstances review that excluded from the scope of the order pencils produced under U.S. patent number 6,217,242, from paper infused with scents by the means covered in the above-referenced patent, thereby having odors distinct from those that may emanate from pencils lacking the scent infusion. See Notice of Final Results of Antidumping Duty Changed Circumstances Review, and Determination to Revoke Order in Part: Certain Cased Pencils from the People's Republic of China, 68 FR 14942 (March 27, 2003).

Initiation of Changed Circumstances Review:

Pursuant to section 751(b)(1) of the Act, the Department will conduct a changed circumstances review upon receipt of information concerning, or a request from an interested party for a review of, an AD duty order which shows changed circumstances sufficient to warrant a review of the order. On April 14, 2005, Notch requested a ruling from the Department in accordance with 19 CFR 351.216(b) to exclude the novelty jumbo pencil described above from the AD order. Therefore, pursuant to section 751(b)(1) of the Act and 19 CFR 351.216(b), we are initiating a changed circumstances administrative review. Although Sanford et al expressed a lack of interest in the order with respect to the large novelty pencil in question, they did not claim that they represent substantially all of the production of the domestic like product, nor has the Department made such a determination. Therefore, the Department is not at this time preliminarily revoking the AD order with respect to the product in question pursuant to 19 CFR 351.222(g)(I). Interested parties are invited to comment on this initiation, or to demonstrate that the domestic interested parties account for substantially all of the production of the domestic like product.

The Department will publish in the Federal Register a notice of preliminary results of changed circumstances antidumping duty administrative review in accordance with 19 CFR 351.221(b)(4) and 351.221(c)(3)(i), which will set forth the Department's preliminary factual and legal conclusions. Pursuant to 19 CFR 351.221(b)(4)(ii), interested parties will have an opportunity to comment on the preliminary results. The Department will issue its final results of review in accordance with the time limits set forth in 19 CFR 351.216(e).

This notice is published in accordance with section 751(b)(1) of the Act.

Dated: August 22, 2005.
Ronald K. Lorentzen,
Acting Assistant Secretary for Import Administration.

[FR Doc. E5-4728 Filed 8-29-05; 8:45 am]

BILLING CODE: 3510-DS-S